DEPARTMENT OF THE INTERIOR

Bureau of Land Management

[LLCO923000.14400000.ET0000.223; COC-080735]

Notice of Application for Permanent Withdrawal and Transfer of Jurisdiction, Colorado

AGENCY: Bureau of Land Management, Interior.

ACTION: Notice of withdrawal application.

SUMMARY: The Department of Energy, Office of Legacy Management (DOE-LM) has filed an application with the Bureau of Land Management (BLM) requesting that the Secretary of the Interior exercise authority under Title II of the Uranium Mill Tailings Radiation Control Act of 1978 (UMTRCA) to permanently withdraw and transfer administrative jurisdiction over 70 acres of public lands at the Durita Mill Tailings Site in Colorado to DOE-LM. The public land and interests in the land would be withdrawn from operation of the general land laws, including the United States mining laws, the mineral and geothermal leasing laws, and the mineral materials disposal laws, subject to valid existing rights, and would be transferred to DOE-LM for long term maintenance and monitoring under a Nuclear Regulatory Commission license as part of the Durita Mill Tailings Site. This notice announces a 30-day opportunity for the public to comment on the DOE-LM application and request a public meeting.

DATES: Comments and meeting requests must be received on or before April 12, 2024.

ADDRESSES: Comments and meeting requests should be sent to BLM Colorado State Director, BLM Colorado State Office, P.O. Box 151029, Lakewood, CO 80215.

FOR FURTHER INFORMATION CONTACT: Jennifer Jardine, Realty Specialist, BLM Colorado State Office, telephone: (970) 385-1224, email: jjardine@blm.gov during regular business hours 8:00 a.m. to 4:30 p.m., Monday through Friday, except holidays. Individuals in the United States who are deaf, deafblind, hard of hearing, or have a speech disability may dial 711 (TTY, TDD, or TeleBraille) to access telecommunications relay services for contacting Ms. Jardine. Individuals outside the United States should use the relay services offered within their country to make international calls to the point-of-contact in the United States.

SUPPLEMENTARY INFORMATION: DOE-LM filed an application with the BLM that requests the Secretary of the Interior to permanently withdraw and transfer administrative jurisdiction over the following described public lands and federally owned minerals, subject to valid existing rights. DOE-LM has requested that the land and minerals be withdrawn from location and entry under the United States mining laws, from leasing under the mineral or geothermal leasing laws, and from disposal under the mineral materials laws, subject to valid existing rights. Under UMTRCA, as amended by the Uranium Mill Tailings Remedial Action Amendments Act of 1988 (42 U.S.C. 7916), the Secretary of the Interior may make such permanent withdrawals and transfers of administrative jurisdiction. The Secretary's actions under UMTRCA are explicitly exempt from the withdrawal and transfer provisions of Section 204 of the Federal Land Policy and Management Act of 1976, as amended. The following public lands are requested for permanent withdrawal and jurisdictional transfer for long term maintenance and monitoring by the DOE-LM under applicable provisions of UMTRCA:

New Mexico Principal Meridian, Colorado

T. 46 N., R. 16 W.,

sec. 34, E½NE¼NE¼SW¼, E½SE¼NE¼SW¼, E½NE¼SE¼SW¼, N½SW¼SE¼, and N½SE¼SE¼;

sec. 35, W½NW¼NW¼SW¼, W½SW¼NW¼SW¼, and W½NW¼SW¼SW¼.

The area described contains 70 acres of public lands, according to the official plat of the survey of the said land on file with the BLM.

The purpose of the requested withdrawal and transfer of administrative jurisdiction is to allow the DOE-LM to administer the lands in perpetuity as a hazardous material site under the authority of UMTRCA, 42 U.S.C. 7902 et seq.

For a period until April 12, 2024, all persons who wish to submit comments, suggestions, or objections in connection with the DOE-LM application may present their views in writing to the BLM Colorado State Office at the address listed in the ADDRESSES section above. Records related to the applications may be examined by contacting the BLM Colorado State Office at the address listed in the ADDRESSES; section above. The BLM is preparing an environmental assessment under the National Environmental Policy Act in connection with the requested withdrawal and jurisdictional transfer. On March 22, 2022, the BLM posted a project description for DOI-BLM-CO-S050-2022-0013-EA on its e-Planning site at eplanning.blm.gov/eplanning-ui/project/2018643/510.

Comments will be available for public review at the BLM Colorado State Office during regular business hours, 8:00 a.m. to 4:30 p.m. Monday through Friday, except Federal holidays. Before including your address, phone number, email address, or other personal identifying information in your comment, you should be aware that your entire comment—including your personal identifying information—may be made publicly available at any time. While you can ask us in your comment to withhold your personal identifying information from public review, we cannot guarantee that we will be able to do so.

(Authority: 42 U.S.C. 7916)

Douglas J. Vilsack,
BLM Colorado State Director.

[FR Doc. 2024-05341 Filed 3-12-24; 8:45 am]

BILLING CODE 6450-01-P